NATIONAL AERONAUTICS AND SPACE ADMINISTRATION

[Notice: (16-064)]

NASA Advisory Council; Science Committee; Astrophysics Subcommittee; Meeting

AGENCY: National Aeronautics and Space Administration.

ACTION: Notice of meeting.

SUMMARY: In accordance with the Federal Advisory Committee Act, Public Law 92-463, as amended, the National Aeronautics and Space Administration (NASA) announces a meeting of the Astrophysics Subcommittee of the NASA Advisory Council (NAC). This Subcommittee reports to the Science Committee of the NAC. The meeting will be held for the purpose of soliciting, from the scientific community and other persons, scientific and technical information relevant to program planning.

DATES: Monday, October 3, 2016, 11:00 a.m.-5:00 p.m.; and Tuesday, October 4, 2016, 11:00 a.m.-5:00 p.m., Eastern Time.

FOR FURTHER INFORMATION CONTACT: Ms. KarShelia Henderson, Science Mission Directorate, NASA Headquarters, Washington, DC 20546, (202) 358-2355, fax (202) 358-2779, or khenderson@nasa.gov.

SUPPLEMENTARY INFORMATION: The meeting will be open to the public telephonically and by WebEx. You must use a touch-tone phone to participate in this meeting. Any interested person may dial the USA toll free conference call number 1-877-601-4492 or toll number 1-773-756-4808, passcode 7555144, to participate in this meeting by telephone on both days. The WebEx link is https://nasa.webex.com/; the meeting number on October 3 is 992 939 742, password is Astrophysics!1; and the meeting number on October 4 is 992 964 807, password is Astrophysics!1.

The agenda for the meeting includes the following topics:

—Astrophysics Division Update

—Updates on Specific Astrophysics Missions

—Reports From the Program Analysis Groups

—Reports From Specific Research and Analysis Programs

—Report on the National Academies Midterm Review

It is imperative that the meeting be held on this date to accommodate the scheduling priorities of the key participants.

Carol J. Hamilton,
Acting Advisory Committee Management Officer, National Aeronautics and Space Administration.

[FR Doc. 2016-21981 Filed 9-12-16; 8:45 am]

BILLING CODE 7510-13-P